DEPARTMENT OF AGRICULTURE

Agricultural Marketing Service

7 CFR Part 52

[Document Number AMS-FV-08-0076; SC-17-330]

United States Standards for Grades of Frozen Onions

AGENCY: Agricultural Marketing Service, USDA.

ACTION: Final notification.

SUMMARY: The Agricultural Marketing Service (AMS) of the Department of Agriculture (USDA) is establishing voluntary United States Standards for Grades of Frozen Onions. The grade standards provide a common language for trade, a means of measuring value in the marketing of frozen onions, and guidance on the effective use of frozen onions.

DATES: Effective Date: September 21, 2017.

FOR FURTHER INFORMATION CONTACT: Contact Brian E. Griffin, Agricultural Marketing Specialist, Specialty Crops Inspection Division, Specialty Crops Program, Agricultural Marketing Service, U.S. Department of Agriculture, 1400 Independence Avenue SW., Room 1536, South Building; STOP 0240, Washington, DC 20250; telephone (202) 720-5021; fax (202) 690-1527; or, email brian.griffin@ams.usda.gov. Copies of the new U.S. Standards for Grades of Frozen Onions are available at http://www.regulations.gov or http://www.ams.usda.gov/.

SUPPLEMENTARY INFORMATION: Section 203(c) of the Agricultural Marketing Act of 1946 (Act) (7 U.S.C. 1621-1627), as amended, directs and authorizes the Secretary of Agriculture “to develop and improve standards of quality, condition, quantity, grade, and packaging, and recommend and demonstrate such standards in order to encourage uniformity and consistency in commercial practices.”

AMS is committed to carrying out this authority in a manner that facilitates the marketing of agricultural commodities and makes copies of official grade standards available upon request. The United States Standards for Grades of Fruits and Vegetables unrelated to Federal Marketing Orders or U.S. Import Requirements no longer appear in the Code of Federal Regulations, but are maintained by USDA, AMS, Specialty Crops Program, and are available at https://www.ams.usda.gov/grades-standards.

AMS is establishing the U.S. Standards for Grades of Frozen Onions using the procedures in part 36, Title 7 of the Code of Federal Regulations (7 CFR part 36).

Background: The American Frozen Food Institute (AFFI) petitioned AMS to develop new grade standards for frozen onions. AFFI is a national trade association representing the interests of U.S. frozen food processors and their suppliers in all frozen food sectors, including processors and packers of frozen onions. AFFI's more than 500 member companies represent approximately 90 percent of all frozen food processed annually in the United States. The AFFI petition provided information on product styles, sample sizes, and a product description for use in the grade standards.

AMS asked the petitioner for various styles of samples in order to determine grades of frozen onions. AMS distributed several discussion drafts of proposed standards to AFFI, instituted changes to the drafts once agreement was reached, then published several Federal Register documents in order to receive comments from all interested parties (see 66 FR 21116, 68 FR 11801, 68 FR 27010, 76 FR 31575, 81 FR 84506, and 82 FR 12424).

Comments

In the most recent comments published November 23, 2016, in 81 FR 84506, and extended comment period published March 3, 2017, in 82 FR 12424, AMS received 19 comments. All comments received were from the general public. Three commenters stated they did not feel there was a need for Government grades of frozen onions. AMS developed the proposed U.S. Standards for Grades of Frozen Onions at the request of, and in cooperation with, the frozen food industry. The U.S. Standards for Grades of Frozen Onions are voluntary standards for grades of quality and condition, and are not Government mandated for general use. The remaining 16 comments received were in agreement with the proposed standard. Comments may be viewed at www.regulations.gov.

These standards establish the grade levels “A,” “B,” and “Substandard,” as well as Acceptable Quality Levels (AQL) tolerances and acceptance numbers for each quality factor as defined for each grade level.

AMS used the standard format for U.S. standards for grades using “individual attributes.” Specifically, the grade standards provide tolerance limits for defects; acceptance numbers of allowable defects with single letter grade designation based on a specified number or weight of sample units; a product description for frozen onions; and, style designations for “whole,” “strips,” “diced,” and “other” styles. The standard also defines quality factors, AQLs, and tolerances for defects in frozen onions, and determines sample unit sizes for this commodity. The grade of a sample unit of frozen onions will be ascertained considering the factors of varietal characteristics, color, flavor and odor, appearance, absence of grit or dirt, defects, and character.

The official grade of a lot of frozen onions covered by these standards will be determined by the procedures set forth in the Regulations Governing Inspection and Certification of Processed Products Thereof, and Certain Other Processed Food Products (7 CFR part 52 through 52.83).

The new U.S. Standards for Grades of Frozen Onions provide a common language for trade and reflect the current marketing of frozen onions. The standards will be effective 30 days after the date of publication in the Federal Register.

Authority: 7 U.S.C. 1621-1627.

Dated: August 16, 2017.
Bruce Summers,
Acting Administrator, Agricultural Marketing Service.

[FR Doc. 2017-17642 Filed 8-21-17; 8:45 am]

BILLING CODE 3410-02-P